FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573, by telephone at (202) 523-5843 or by e-mail at OTI@fmc.gov.

Alltransport International Logistics, Inc. (NVO), 63 65th Place, Long Beach, CA 90803. Officer: Stephen A. Taub, President/Secretary/CFO (Qualifying Individual), Application Type: New NVO License.

American Global Logistics LLC dba AGL (NVO & OFF), 3399 Peachtree Road, NE., #1130, Atlanta, GA 30326, Officers: Chad Rosenberg, President/CEO (Qualifying Individual), Michael Shea, Secretary, Application Type: QI Change.

Ask-Ark, LLC (NVO), 808 Revelstore Terrace, Leesburg, VA 20176, Officers: Alphonso D. Nettles, President (Qualifying Individual), Ify S. Diala, Vice President/CFO, Application Type: New NVO License.

Ayalex LLC dba Ayalex Group (OFF), 13456 Minnieville Road, Woodbridge, VA 22192, Officers: Alexandre Ayanou, Manager/President/CEO (Qualifying Individual), Faty Ayanou, Member, Application Type: New OFF License.

C. Hartwig Gdynia dba C. Hartwig Transport (NVO), 7, Derdowskiego Street, 81-369 Gdynia, Poland, Officers: Anna Zadroga, Customer Service Manager (Qualifying Individual), Dariusz Brodecki, Chairman, Application Type: QI Change.

Crowley Logistics, Inc. (NVO & OFF), 9487 Regency Square Blvd., Jacksonville, FL 32225, Officers: John G. Smith, OTI Compliance Officer & Product Logistics Manager (Qualifying Individual), Thomas B. Crowley, Director, Application Type: QI Change.

Falcone Global Solutions, LLC (OFF), 142 Ennisbrook Drive, SE., Smyrna, GA 30082, Officers: John B. Falcone, Chief Solutions Officer (Qualifying Individual), Suki M. Falcone, President, Application Type: New OFF License.

Foothills Logistics, Inc. dba Foothills, Logistics of Florida, Inc., 327 B W Phillips Road, Greer, SC 29650, Officers: William A. Pottow, Vice President (Qualifying Individual), Janine A. Antonio, President, Application Type: License Transfer.

Inter-Jet Ocean Transport, Inc. (NVO), 2600 Main Street Extension, 2nd Floor, Sayreville, NJ 08872, Officers: Tina J. Okragly, Vice President (Qualifying Individual), Hendrick J. Hartong, Director, Application Type: QI Change.

International Shipping Lines Incorporated (NVO), 2 Thorncliffe Park Drive, Unit #28, Toronto, ON M4H 1H2 Canada, Officers: Kamran Shaikh, President (Qualifying Individual), Walaja Ahmed, Secretary, Application Type: New NVO License.

Norton Lilly Logistics, LLC (NVO & OFF), One St. Louis Center, #3002, Mobile, AL 36602, Officers: Horace W. Thurber, IV, President (Qualifying Individual), Kevin L. Filliater, Vice President, Application Type: Add OFF Service.

Oceania Logistics Inc (NVO), 131-37 41st Avenue, Suite 2B, Flushing, NY 11355, Officers: Jian Ying Du, Vice President (Qualifying Individual), Shu Wang, President, Application Type: New NVO License.

South West Caribbean International Shipping Incorporated (NVO), 3622 Church Avenue, Brooklyn, NY 11203, Officer: Marcia Brown, President and Secretary, (Qualifying Individual), Application Type: New NVO License.

Sprint Global Inc (NVO), 104 Hickorywood Blvd., Cary, NC 27519, Officers: Jagadeeswari Chandramouleeswaran, President (Qualifying Individual), Saraswathi Lakshmanan, Secretary, Application Type: New NVO License.

Trans-Force Marine, Inc. (NVO), 5960 NW. 99th Avenue, Unit #9, Doral, FL 33178, Officer: Victor Del Castillo, President/Secretary/Treasurer (Qualifying Individual), Application Type: New NVO.

Dated: October 3, 2011.
Karen V. Gregory,
Secretary.

[FR Doc. 2011-25910 Filed 10-6-11; 8:45 am]

BILLING CODE P